DEPARTMENT OF JUSTICE

Bureau of Prisons

Notice of Intent To Prepare a Draft Environmental Impact Statement (DEIS) for the Construction of a Federal Correctional Facility in Yuma and/or Tucson, AZ

AGENCY: Bureau of Prisons, DOJ.

ACTION: Notice of intent to prepare a Draft Environmental Impact Statement (DEIS).

SUMMARY:

Proposed Action

The United States Department of Justice, Bureau of Prisons, has determined that in order to meet increasing demands for additional inmate capacity a new federal correctional facility is needed in its system. The Bureau of Prisons proposes to construct and operate a high-security United States Penitentiary (USP) or a medium-security Federal Correctional Facility (FCI). The USP would have a rated capacity of approximately 1,000 inmates and an FCI would have a rated capacity of approximately 1,200 inmates. The Bureau has identified potential sites that could meet our needs in both the Yuma and Tucson, Arizona areas and they will be considered in the DEIS. If one or more of these potential sites are selected, they would also be used for road access, administration, programs and services, parking, and support facilities.

In the process of evaluating potential sites, several aspects will receive a detailed examination including utilities, traffic patterns, noise levels, visual intrusions, threatened and endangered species, cultural resources, and socio-economic impacts. This notice also initiates the Federal Bureau of Prisons responsibilities under the National Historic Preservation Act of 1966, as amended.

Alternatives

In developing the DEIS, the options of “no action” and “alternative sites” for the proposed facility will be fully and thoroughly examined.

Scoping Process

Informal discussions and meetings with local officials and economic development staff have already been held on the proposed project, and during the preparation of the DEIS, there will be other opportunities for public involvement. There will be two public scoping meetings held and the first one will begin at 7 p.m. on Wednesday December 13, 2000, at the Woodard Junior High School in Yuma, Arizona. The second will be held on Thursday December 14, 2000, at 7 p.m. at the Craycroft Elementary School in Tucson, Arizona. The meetings have been well publicized and are scheduled at a time that will make it possible for the public and interested agencies or organizations to attend.

DEIS Preparation

Public notice will be given concerning the availability of the DEIS for public review and comment.

Addresses: Questions concerning the proposed action and the DEIS can be answered by: David J. Dorworth, Chief, Site Selection & Environmental Review Branch, Federal Bureau of Prisons, 320 First Street, NW., Washington, DC 20534, Attention: Rodney Anderson, Telephone: (202) 514-6470, Telefacsimile: (202) 616-6024, E-mail: siteselection@BOP.gov.

Dated: November 21. 2000.
David J. Dorworth,
Chief, Site Selection and Environmental Review Branch.

[FR Doc. 00-30240 Filed 11-30-00; 8:45 am]

BILLING CODE 4410-05-P